DEPARTMENT OF VETERANS AFFAIRS

[OMB Control No. 2900-0086]

Agency Information Collection Activity: Request for a Certificate of Eligibility for VA Home Loan Benefit

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0086.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0086” in any correspondence.

SUPPLEMENTARY INFORMATION: Authority: Public Law 104-13; 44 U.S.C. 3501-3521.

Title: Request for a Certificate of Eligibility for VA Home Loan Benefit, VA Form 26-1880.

OMB Control Number: 2900-0086.

Type of Review: Extension of a currently approved collection.

Abstract: VA Form 26-1880 is used by VA to determine an applicant's eligibility for Loan Guaranty benefits, and the amount of entitlement available. Each completed form is normally accompanied by proof of military service and is submitted by the applicant to the appropriate VA office. If eligible, VA will issue the applicant a Certificate of Eligibility (COE) to be used in applying for Loan Guaranty benefits.

This form is also used in restoration of entitlement cases. Generally, if an applicant has used all or part of his or her entitlement, it may be restored if (1) the property has been sold and the loan has been paid in full or (2) a qualified veteran-transferee agrees to assume the balance on the loan and agrees to substitute his or her entitlement for the same amount of entitlement originally used by the applicant to get the loan. The buyer must also meet the occupancy and income and credit requirements of the law. Restoration is not automatic; an applicant must apply for it by completing VA Form 26-1880.

The Secretary is required by 38 U.S.C. 3702 (a), (b), and (c) to determine the applicant's eligibility for Loan Guaranty benefits, compute the amount of entitlement, and document the certificate with the amount and type of guaranty used and the amount, if any, remaining.

An agency may not conduct or sponsor, and a person is not required to respond to a collection of information unless it displays a currently valid OMB control number. The Federal Register Notice with a 60-day comment period soliciting comments on this collection of information was published at 87 FR 119 on June 22, 2022, page 37376.

Affected Public: Individuals and households.

Estimated Annual Burden: 142,917 hours.

Estimated Average Burden per Respondent: Weighted average 4.75 minutes.

• By completing VA Form 26-1880 or Electronic Application by Lender or Veteran: 15 minutes.

• By requesting Automated Certificate of Eligibility by Lender or Veteran and Automatically Issued: 30 seconds.

Frequency of Response: One-time.

Estimated Number of Respondents: Total 1,925,000.

• By completing VA Form 26-1880 or Electronic Application by Lender or Veteran: 1,400,000.

• By requesting Automated Certificate of Eligibility by Lender or Veteran and Automatically Issued: 525,000.

By direction of the Secretary.
Maribel Aponte,
VA PRA Clearance Officer, Office of Enterprise and Integration, Data Governance Analytics, Department of Veterans Affairs.

[FR Doc. 2022-19090 Filed 9-2-22; 8:45 am]

BILLING CODE 8320-01-P